DEPARTMENT OF LABOR

Employment and Training Administration

[TA-W-53,370]

Fishing Vessel (F/V) Laurie B, Ketchikan, AK; Notice of Termination of Investigation

Pursuant to section 221 of the Trade Act of 1974, as amended, an investigation was initiated on October 29, 2003 in response to a petition filed by a company official on behalf of workers of F/V Laurie B, Ketchikan, Alaska.

All workers were separated from the subject firm more than one year before the date of the petition. Section 223(b) of the Act specifies that no certification may apply to any worker whose last separation occurred more than one year before the date of the petition. Consequently, further investigation in this case would serve no purpose, and the investigation has been terminated.

Signed at Washington, DC this 12th day of November 2003.
Linda G. Poole,
Certifying Officer, Division of Trade Adjustment Assistance.

[FR Doc. 03-31532 Filed 12-22-03; 8:45 am]

BILLING CODE 4510-30-P